DEPARTMENT OF THE TREASURY

Alcohol and Tobacco Tax and Trade Bureau

27 CFR Parts 4, 5, 13, 19, 24, 25, 28, 70, 194, and 252

[T.D. TTB-8]

RIN 1513-AA76

Exportation of Liquors; Recodification of Regulations; Administrative Changes Due to the Homeland Security Act of 2002

AGENCY: Alcohol and Tobacco Tax and Trade Bureau (TTB), Treasury.

ACTION: Final rule; Treasury decision.

SUMMARY: The Alcohol and Tobacco Tax and Trade Bureau is recodifying its regulations pertaining to exportation of liquors. Due to the Homeland Security Act, we are also making administrative changes to these regulations to reflect the Bureau's new name and organizational structure. This document does not include any substantive regulatory changes.

DATES: This rule is effective on January 27, 2004.

FOR FURTHER INFORMATION CONTACT: Lisa M. Gesser, Regulations and Procedures Division, Alcohol and Tobacco Tax and Trade Bureau, P.O. Box 128, Morganza, Maryland 20660; (301-290-1460) or e-mail Lisa.Gesser@ttb.gov.

SUPPLEMENTARY INFORMATION:

Background

As a part of our continuing efforts to reorganize title 27, chapter I, Code of Federal Regulations (27 CFR), we are removing all of part 252, Exportation of Liquors, from subchapter M—Alcohol, Tobacco and Other Excise Taxes, and recodifying it as part 28 in subchapter A—Liquor, of that chapter. We are also changing the title of subchapter A to “Subchapter A—Alcohol” and are revising the title of the new part 28 to read “Part 28—Exportation of Alcohol.” These changes better describe the contents of that subchapter and part. The table below shows from which section of part 252 the requirements of part 28 are derived.

In addition, because section 1111 of the Homeland Security Act of 2002 (Public Law 107-296, 116 Stat. 2135) divided the Bureau of Alcohol, Tobacco and Firearms, Department of the Treasury, into two separate agencies, the Bureau of Alcohol, Tobacco, Firearms and Explosives (ATF) in the Department of Justice, and the Alcohol and Tobacco Tax and Trade Bureau (TTB), which remains in the Department of the Treasury, we are making administrative changes to part 28. This reorganization requires us to amend each of the CFR parts under our jurisdiction to reflect our Bureau's new name and organizational structure.

Derivation Table for Part 28
The requirements of section: | Are derived from section:
Subpart A
28.1 | 252.1
28.2 | 252.2
28.3 | 252.3
28.4 | 252.4
Subpart B
28.11 | 252.11
Subpart C
28.20 | 252.20
28.21 | 252.21
28.22 | 252.22
28.23 | 252.23
28.25 | 252.25
28.26 | 252.26
28.27 | 252.27
28.28 | 252.28
28.30 | 252.30
28.35 | 252.35
28.36 | 252.36
28.37 | 252.37
28.38 | 252.38
28.40 | 252.40
28.41 | 252.41
28.42 | 252.42
28.43 | 252.43
28.45 | 252.45
28.48 | 252.48
Subpart D
28.51 | 252.51
28.52 | 252.52
28.52a | 252.52a
28.52b | 252.52b
28.53 | 252.53
28.54 | 252.54
28.55 | 252.55
28.56 | 252.56
28.57 | 252.57
28.58 | 252.58
28.59 | 252.59
28.60 | 252.60
28.61 | 252.61
28.62 | 252.62
28.63 | 252.63
28.64 | 252.64
28.65 | 252.65
28.66 | 252.66
28.67 | 252.67
28.70 | 252.70
28.71 | 252.71
28.72 | 252.72
28.73 | 252.73
28.74 | 252.74
28.80 | 252.80
Subpart E
28.91 | 252.91
28.92 | 252.92
28.93 | 252.93
28.94 | 252.94
28.95 | 252.95
28.96 | 252.96
28.97 | 252.97
28.98 | 252.98
28.100 | 252.100
28.101 | 252.101
28.102 | 252.102
28.103 | 252.103
28.104 | 252.104
28.105 | 252.105
28.106 | 252.106
28.107 | 252.107
28.110 | 252.110
28.115 | 252.115
28.116 | 252.116
28.117 | 252.117
28.118 | 252.118
Subpart F
28.121 | 252.121
28.122 | 252.122
28.123 | 252.123
28.124 | 252.124
28.125 | 252.125
28.126 | 252.126
28.127 | 252.127
28.130 | 252.130
28.131 | 252.131
28.132 | 252.132
28.133 | 252.133
Subpart G
28.141 | 252.141
28.142 | 252.142
28.143 | 252.143
28.144 | 252.144
28.145 | 252.145
28.146 | 252.146
28.147 | 252.147
28.148 | 252.148
28.149 | 252.149
28.150 | 252.150
Subpart H
28.151 | 252.151
28.152 | 252.152
28.153 | 252.153
28.154 | 252.154
28.155 | 252.155
28.156 | 252.156
28.160 | 252.160
28.161 | 252.161
28.162 | 252.162
28.163 | 252.163
Subpart I
28.171 | 252.171
28.190 | 252.190
28.191 | 252.191
28.192 | 252.192
28.193 | 252.193
28.194 | 252.194
28.195 | 252.195
28.195b | 252.195b
28.196 | 252.196
28.197 | 252.197
28.198 | 252.198
28.199 | 252.199
Subpart J [Reserved]
Subpart K
28.211 | 252.211
28.212 | 252.212
28.213 | 252.213
28.214 | 252.214
28.215 | 252.215
28.216 | 252.216
28.217 | 252.217
28.218 | 252.218
28.219 | 252.219
28.220 | 252.220
28.220a | 252.220a
Subpart L
28.221 | 252.221
28.222 | 252.222
28.223 | 252.223
28.225 | 252.225
28.226 | 252.226
28.227 | 252.227
28.230 | 252.230
Subpart M
28.241 | 252.241
28.242 | 252.242
28.243 | 252.243
28.244 | 252.244
28.244a | 252.244a
28.245 | 252.245
28.246 | 252.246
28.247 | 252.247
28.250 | 252.250
28.251 | 252.251
28.252 | 252.252
28.253 | 252.253
Subpart N
28.261 | 252.261
28.262 | 252.262
28.263 | 252.263
28.264 | 252.264
28.265 | 252.265
28.266 | 252.266
28.267 | 252.267
28.268 | 252.268
28.269 | 252.269
28.275 | 252.275
28.280 | 252.280
28.281 | 252.281
28.282 | 252.282
28.285 | 252.285
28.286 | 252.286
28.290 | 252.290
28.291 | 252.291
28.295 | 252.295
Subpart O
28.301 | 252.301
28.302 | 252.302
28.303 | 252.303
28.304 | 252.304
28.310 | 252.310
28.315 | 252.315
28.316 | 252.316
28.317 | 252.317
28.318 | 252.318
28.320 | 252.320
28.321 | 252.321
Subpart P
28.331 | 252.331
28.332 | 252.332
28.333 | 252.333
28.334 | 252.334
28.335 | 252.335

Paperwork Reduction Act

The provisions of the Paperwork Reduction Act of 1995, Public Law 104-13, 44 U.S.C. chapter 35, and its implementing regulations, 5 CFR part 1320, do not apply to this final rule because there are no new or revised recordkeeping or reporting requirements.

Regulatory Flexibility Act

Because no notice of proposed rulemaking is required for this rule under the Administrative Procedure Act (5 U.S.C. 553), the provisions of the Regulatory Flexibility Act (5 U.S.C. 601 et seq.) do not apply.

Executive Order 12866

This final rule is not a significant regulatory action as defined in Executive Order 12866. Accordingly, this final rule is not subject to the analysis this Executive Order requires.

Administrative Procedure Act

Because this final rule merely makes technical amendments to improve the organization of the regulations, no notice of proposed rulemaking and public comment period is required under 5 U.S.C. 553(b)(B). Similarly, because this final rule makes no substantive changes and is merely a recodification of existing regulations, this final rule is not subject to the effective date limitation of 5 U.S.C. 553(d).

Drafting Information

The principal author of this document is Lisa M. Gesser, Regulations and Procedures Division, Alcohol and Tobacco Tax and Trade Bureau.

List of Subjects

27 CFR Part 4

Advertising, Customs duties and inspection, Imports, Labeling, Packaging and containers, Reporting and recordkeeping requirements, Trade practices, Wine.

27 CFR Part 5

Advertising, Customs duties and inspection, Imports, Labeling, Liquors, Packaging and containers, Reporting and recordkeeping requirements, Trade practices.

27 CFR Part 13

Administrative practice and procedure, Alcohol and alcoholic beverages, Labeling.

27 CFR Part 19

Caribbean Basin initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 25

Beer, Claims, Electronic funds transfers, Excise taxes, Exports, Labeling, Packaging and containers, Reporting and recordkeeping requirements, Research, Surety bonds.

27 CFR Part 28

Aircraft, Alcohol and alcoholic beverages, Armed forces, Beer, Claims, Excise taxes, Exports, Foreign trade zones, Labeling, Liquors, Packaging and containers, Reporting and recordkeeping requirements, Surety bonds, Vessels, Warehouses, Wine.

27 CFR Part 70

Administrative practice and procedure, Claims, Excise taxes, Freedom of information, Law enforcement, Penalties, Reporting and recordkeeping requirements, Surety bonds.

27 CFR Part 194

Alcohol and alcoholic beverages, Claims, Excise taxes, Exports, Packaging and containers, Reporting and recordkeeping requirements.

27 CFR Part 252

Aircraft, Alcohol and alcoholic beverages, Armed forces, Beer, Claims, Excise taxes, Exports, Foreign trade zones, Labeling, Liquors, Packaging and containers, Reporting and recordkeeping requirements, Surety bonds, Vessels, Warehouses, Wine.

Authority and Issuance

For the reasons discussed in the preamble, we amend title 27, chapter I, Code of Federal Regulations as follows:

SUBCHAPTER A—ALCOHOL

1. Revise the heading of subchapter A to read as set forth above.

PART 4—LABELING AND ADVERTISING OF WINE

2. The authority citation for 27 CFR part 4 continues to read as follows:

Authority: 27 U.S.C. 205, unless otherwise noted.

§ 4.5 [Amended]

3. Amend § 4.5 by removing the reference to “27 CFR Part 252—Exportation of Liquors” and adding, in part number order, a reference to “27 CFR Part 28—Exportation of Alcohol.”

PART 5—LABELING AND ADVERTISING OF DISTILLED SPIRITS

4. The authority citation for 27 CFR part 5 continues to read as follows:

Authority: 26 U.S.C. 5301, 7805; 27 U.S.C. 205.

§ 5.2 [Amended]

5. Amend § 5.2 by removing the reference to “27 CFR Part 252—Exportation of Liquors” and adding, in part number order, a reference to “27 CFR Part 28—Exportation of Alcohol.”

PART 13—LABELING PROCEEDINGS

6. The authority citation for 27 CFR part 13 continues to read as follows:

Authority: 27 U.S.C. 205(e), 26 U.S.C. 5301 and 7805.

§ 13.3 [Amended]

7. Amend § 13.3 by removing the reference to “27 CFR Part 252—Exportation of Liquors” and adding, in part number order, a reference to “27 CFR Part 28—Exportation of Alcohol.”

PART 19—DISTILLED SPIRITS PLANTS

8. The authority citation for 27 CFR part 19 continues to read as follows:

Authority: 19 U.S.C. 81c, 1311; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3 [Amended]

9. Amend § 19.3 by removing the reference to “27 CFR Part 252—Exportation of Liquors” and adding, in part number order, a reference to “27 CFR Part 28—Exportation of Alcohol.”

§§ 19.46, 19.396, 19.397, 19.531, 19.540, 19.605, 19.606, 19.607, 19.608, 19.685, 19.686, 19.687, and 19.769 [Amended]

10. Amend the above referenced sections as follows:

Amend: | By removing the reference to: | And replacing it with:
§ 19.46 | 27 CFR part 252 | 27 CFR part 28.
§ 19.396 | 27 CFR part 252 | 27 CFR part 28.
§ 19.397 | 27 CFR part 252 | 27 CFR part 28.
§ 19.397 | 27 CFR 252.195b | 27 CFR 28.195b.
§ 19.397 | 27 CFR 252.92 | 27 CFR 28.92.
§ 19.531(h) | 27 CFR part 252 | 27 CFR part 28.
§ 19.540(a) | Part 252 | Part 28.
§ 19.605(a)(1) | 27 CFR part 252 | 27 CFR part 28.
§ 19.606(c) | 27 CFR part 252 | 27 CFR part 28.
§ 19.607(a)(6) | 27 CFR part 252 | 27 CFR part 28.
§ 19.608(a)(7) | 27 CFR part 252 | 27 CFR part 28.
§ 19.685(a) | 27 CFR part 252 | 27 CFR part 28.
§ 19.685(a) | 27 CFR part 20, 22, or 252 | 27 CFR part 20, 22, or 28.
§ 19.686(a) (two times) | 27 CFR part 252 | 27 CFR part 28.
§ 19.687 | 27 CFR 252.197 through 252.199 | 27 CFR 28.197 through 28.199.
§ 19.769 (introductory text) | Part 252 | Part 28.

PART 24—WINE

11. The authority citation for 27 CFR part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

§ 24.4 [Amended]

12. Amend § 24.4 by removing the reference to “27 CFR Part 252—Exportation of Liquors” and adding, in part number order, a reference to “27 CFR Part 28—Exportation of Alcohol.”

§§ 24.67 and 24.292 [Amended]

13. Amend the above referenced sections as follows:

Amend: | By removing the reference to: | And replacing it with:
§ 24.67(a) | 27 CFR part 252 | 27 CFR part 28.
§ 24.292(a) | Part 252 | Part 28.
§ 24.292(b) | Part 252 | Part 28.

PART 25—BEER

14. The authority citation for 27 CFR part 25 continues to read as follows:

Authority: 19 U.S.C. 81c; 26 U.S.C. 5002, 5051-5054, 5056, 5061, 5091, 5111, 5113, 5142, 5143, 5146, 5222, 5401-5403, 5411-5417, 5551, 5552, 5555, 5556, 5671, 5673, 5684, 6011, 6061, 6065, 6091, 6109, 6151, 6301, 6302, 6311, 6313, 6402, 6651, 6656, 6676, 6806, 7011, 7342, 7606, 7805; 31 U.S.C. 9301, 9303-9308.

§ 25.4 [Amended]

15. Amend § 25.4 by removing the reference to “27 CFR Part 252—Exportation of Liquors” and adding, in part number order, a reference to “27 CFR Part 28—Exportation of Alcohol.”

§§ 25.145, 25.203, and 25.261 [Amended]

16. Amend the above referenced sections as follows:

Amend: | By removing the reference to: | And replacing it with:
§ 25.145(b)(4) | Part 252 | Part 28.
§ 25.203 | Part 252 | Part 28.
§ 25.261(a)(4) | Part 252 | Part 28.

PART 70—PROCEDURE AND ADMINISTRATION

17. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§§ 70.411, 70.414, and 70.462 [Amended]

18. Amend the above referenced sections as follows:

Amend: | By removing the reference to: | And replacing it with:
§ 70.411(c)(28) | Part 252 | Part 28.
§ 70.414(f)(2) | Part 252 | Part 28.
§ 70.414(f)(2) | Parts 19 and 252 | Parts 19 and 28.
§ 70.462 | 27 CFR part 252 | 27 CFR part 28.

PART 194—LIQUOR DEALERS

19. The authority citation for 27 CFR part 194 continues to read as follows:

Authority: 26 U.S.C. 5001, 5002, 5111-5114, 5116, 5117, 5121-5124, 5142, 5143, 5145, 5146, 5206, 5207, 5301, 5352, 5555, 5613, 5681, 5691, 6001, 6011, 6061, 6065, 6071, 6091, 6109, 6151, 6311, 6314, 6402, 6511, 6601, 6621, 6651, 6657, 7011, 7805.

§ 194.281 [Amended]

20. Amend § 194.281 as follows:

a. Remove the reference to “§ 252.171” and add, in its place, a reference to “§ 28.171”.

b. Remove the reference to “Parts 19 and 252” and add, in its place, a reference to “Parts 19 and 28”.

PART 252—[REDESIGNATED AS PART 28]

21. Transfer 27 CFR part 252 from chapter l, subchapter M, to chapter l, subchapter A and redesignate as 27 CFR part 28.

PART 28—EXPORTATION OF LIQUORS

22. The authority citation for the newly redesignated 27 CFR part 28 continues to read as follows:

Authority: 5 U.S.C. 552(a); 19 U.S.C. 81c, 1202; 26 U.S.C. 5001, 5007, 5008, 5041, 5051, 5054, 5061, 5111, 5112, 5114, 5121, 5122, 5124, 5201, 5205, 5207, 5232, 5273, 5301, 5313, 5555, 6302, 7805; 27 U.S.C. 203, 205; 44 U.S.C. 3504(h).

PART 28—EXPORTATION OF ALCOHOL

23. Revise the heading of the newly redesignated part 28 to read as set forth above.

§§ 28.2 and 28.4 [Amended]

24. Amend the above referenced sections as follows:

Amend: | By removing the reference to: | And adding in its place:
§ 28.2(a) | ATF | TTB.
§ 28.2(b) | ATF Web site (http://www.ATF.treas.gov/) | TTB Web site (http://www.ttb.gov).
§ 28.4 (section heading) | Director | Administrator.
§ 28.4 | Director | Administrator.
§ 28.4 (two times) | Part 252 | Part 28.
§ 28.4 (two times) | ATF officers | TTB officers.
§ 28.4 (two times) | ATF Order 1130.27 | TTB Order 1135.28.
§ 28.4 | Director's | Administrator's.
§ 28.4 | ATF delegation | TTB delegation.
§ 28.4 | ATF Distribution Center, P.O. Box 5950, Springfield, Virginia 22150-5950 | Distribution Center, P.O. Box 5950, Springfield, Virginia 22150-5950.
§ 28.4 | ATF Web site (http://www.ATF.treas.gov/) | TTB Web site (http://www.ttb.gov/).

§ 28.11 [Amended]

25. Amend § 28.11 as follows:

a. Remove the definition of “Appropriate ATF officer” and add, in its place, the definition of “Appropriate TTB officer” to read as follows: “Appropriate TTB officer. An officer or employee of the Alcohol and Tobacco Tax and Trade Bureau (TTB) authorized to perform any functions relating to the administration or enforcement of this part by TTB Order 1135.28, Delegation of the Administrator's Authorities in 27 CFR part 28, Exportation of Alcohol.”

b. Remove the definition of “Director” and add, in alphabetical order, the definition of “Administrator” to read as follows: “Administrator. The Administrator, Alcohol and Tobacco Tax and Trade Bureau, Department of the Treasury, Washington, DC.”

c. Remove the definition of “District Director.”

26. Amend part 28 as follows:

Amendment Table for Part 28
Amend: | By removing the reference to: | And adding in its place:
§ 28.20(a)(1) (two times) | ATF | TTB.
§ 28.20(a)(2) (introductory text heading) | ATF | TTB.
§ 28.20(a)(2) (introductory text) | ATF | TTB.
§ 28.20(a)(3) | ATF | TTB.
§ 28.20(a)(4) | ATF | TTB.
§ 28.20(b)(1) | ATF | TTB.
§ 28.20(b)(2) (introductory text heading) | ATF | TTB.
§ 28.20(b)(2) (introductory text) | ATF | TTB.
§ 28.20(b)(3) | ATF | TTB.
§ 28.20(c) (two times) | ATF | TTB.
§ 28.21(b) | § 252.22 | § 28.22.
§ 28.21(e) | § 252.22 | § 28.22.
§ 28.22 | § 252.21 | § 28.21.
§ 28.22 (five times) | ATF | TTB.
§ 28.22 (Note:) | ATF | TTB.
§ 28.23 | ATF | TTB.
§ 28.25 | § 252.63 or § 252.64 | § 28.63 or § 28.64.
§ 28.26(a)(1) | § 252.27 | § 28.27.
§ 28.26(b) | § 252.28 | § 28.28.
§ 28.27 | § 252.122(a) | § 28.122(a).
§ 28.27 | § 252.28 | § 28.28.
§ 28.28 | § 252.26(a) or (b) and § 252.27 | § 28.26(a) or (b) and § 28.27.
§ 28.28 | §§252.26(a)(2) and 252.27 | §§ 28.26(a)(2) and 28.27.
§ 28.30(a) | ATF | TTB.
§ 28.35 | ATF | TTB.
§ 28.36 (introductory text) | ATF | TTB.
§ 28.36(c) (two times) | ATF | TTB.
§ 28.36 (concluding text) (two times) | ATF | TTB.
§ 28.37 (section heading) | ATF | TTB.
§ 28.37 (three times) | ATF | TTB.
§ 28.38 (two times) | ATF | TTB.
§ 28.40(a) | § 252.250 | § 28.250.
§ 28.40(b) | § 252.251 | § 28.251.
§ 28.40(c) | § 252.252 | § 28.252.
§ 28.40(d) | § 252.250 | § 28.250.
§ 28.40(e) | § 252.253 | § 28.253.
§ 28.41 | § 252.268 | § 28.268.
§ 28.42 | § 252.250 | § 28.250.
§ 28.43(a)(2) | § 252.275 | § 28.275.
§ 28.43(a)(3) | § 252.250 | § 28.250.
§ 28.43(a)(3) | § 252.251 | § 28.251.
§ 28.43(a)(3) | § 252.252 | § 28.252.
§ 28.43(a)(4) | § 252.253 | § 28.253.
§ 28.43(a)(6) | ATF | TTB.
§ 28.43(b)(1) | § 252.23 | § 28.23.
§ 28.43(b)(2) | §§ 252.264 or 252.282 | §§ 28.264 or 28.282.
§ 28.43(b)(3) | ATF | TTB.
§ 28.45 | ATF | TTB.
§ 28.52a | ATF | TTB.
§ 28.55 | ATF | TTB.
§ 28.56 (introductory text) | ATF | TTB.
§ 28.57 (section heading) | Director | Administrator.
28.57 | ATF | TTB.
§ 28.57 (two times) | Director | Administrator.
§ 28.58(a) | § 252.91 | § 28.91.
§ 28.58(b) | § 252.121 | § 28.121.
§ 28.58(c) | § 252.151 | § 28.151.
§ 28.58(c) | ATF | TTB.
§ 28.59 | § 252.121 | § 28.121.
§ 28.60 | § 252.141 | § 28.141.
§ 28.61 | § 252.91(a)(1), (2), (3), (5), or § 252.121(a), (b), (c), or (d) | 28.91(a)(1), (2), (3), (5), or § 28.121(a), (b), (c), or (d).
§ 28.61 | ATF | TTB.
§ 28.61 | § 252.51 | § 28.51.
§ 28.62(a) | § 252.91(a)(1), (2), (3), (5), or § 252.121(a), (b), (c), or (d) | § 28.91(a)(1), (2), (3), (5), or § 28.121(a), (b), (c), or (d).
§ 28.62(a) | ATF | TTB.
§ 28.62(a) | § 252.51 | § 28.51.
§ 28.62(b) | ATF | TTB.
§ 28.62(c) | ATF | TTB.
§ 28.62(d) | § 252.54 | § 28.54.
§ 28.63 | § 252.25 | § 28.25.
§ 28.63 | § 252.51 | § 28.51.
§ 28.64(a) | § 252.25 | § 28.25.
§ 28.64(a) | § 252.51 | § 28.51.
§ 28.65 | §§ 252.171 and 252.211 | §§ 28.171 and 28.211.
§ 28.65 | ATF | TTB.
§ 28.65 | § 252.51 | § 28.51.
§ 28.65 | § 252.171(d) | § 28.171(d).
§ 28.67 | ATF | TTB.
§ 28.67 | § 252.72 | § 28.72.
§ 28.70 (two times) | ATF | TTB.
§ 28.71 | §§ 252.171 and 252.211 | §§ 28.171 and 28.211.
§ 28.71 | § 252.72 | § 28.72.
§ 28.71 (two times) | ATF | TTB.
§ 28.71 | § 252.70 | § 28.70.
§ 28.72 (three times) | ATF | TTB.
§ 28.72 | § 252.73(b) | § 28.73(b).
§ 28.73(a) | § 252.70 | § 28.70.
§ 28.73(b) | § 252.72 | § 28.72.
§ 28.74 | § 252.53 | § 28.53.
§ 28.74 (three times) | ATF | TTB.
§ 28.91(a)(2) | § 252.21 | § 28.21.
§ 28.91(a)(5) | § 252.26 | § 28.26.
§ 28.92 (section heading) | ATF | TTB.
§ 28.92(a) (three times) | ATF | TTB.
§ 28.92(b) | ATF | TTB.
§ 28.95 | ATF | TTB.
§ 28.96 (two times) | ATF | TTB.
§ 28.98 (four times) | ATF | TTB.
§ 28.103(b) | ATF | TTB.
§ 28.104 (two times) | ATF | TTB.
§ 28.105 | ATF | TTB.
§ 28.107 (two times) | ATF | TTB.
§ 28.115 (introductory text) | § 252.116 | § 252.116.
§ 28.116 (introductory text) | § 252.115 | § 28.115.
§ 28.116 (introductory text) | ATF | TTB.
§ 28.116 (introductory text) | § 252.117 | § 28.117.
§ 28.116(e) | ATF | TTB.
§ 28.117 | § 252.116 | § 28.116.
§ 28.117 (four times) | ATF | TTB.
§ 28.117 | § 252.115 | § 28.115.
§ 28.121(b) | § 252.21 | § 28.21.
§ 28.121(d) | § 252.27 | § 28.27.
§ 28.122 (section heading) | ATF | TTB.
§ 28.122(a) (three times) | ATF | TTB.
§ 28.122(b) | ATF | TTB.
§ 28.122(c) (four times) | ATF | TTB.
§ 28.122(d) (four times) | ATF | TTB.
§ 28.123(b) | ATF | TTB.
§ 28.125 (two times) | ATF | TTB.
§ 28.125 | § 252.122 | § 28.122.
§ 28.126 | ATF | TTB.
§ 28.131 (introductory text) | § 252.130 | § 28.130.
§ 28.131 (introductory text) | ATF | TTB.
§ 28.131(c) | ATF | TTB.
§ 28.131 (concluding text) | ATF | TTB.
§ 28.132 | § 252.131 | § 28.131.
§ 28.132 (seven times) | ATF | TTB.
§ 28.132 | § 252.130 | § 28.130.
§ 28.133 (two times) | ATF | TTB.
§ 28.141(a)(2) | § 252.21 | § 28.21.
§ 28.141(c) | § 252.60 | § 28.60.
§ 28.146 | ATF | TTB.
§ 28.146 | § 252.142 | § 28.142.
§ 28.147 | § 252.262 | § 28.262.
§ 28.147 | ATF | TTB.
§ 28.151 (concluding text) | § 252.58(c) | § 28.58(c).
§ 28.152 (section heading) | ATF | TTB.
§ 28.152 | § 252.151 | § 28.151.
§ 28.152 | ATF | TTB.
§ 28.153 | §§ 252.93, 252.94, 252.98, 252.105, and 252.117 | §§ 28.93, 28.94, 28.98, 28.105, and 28.117.
§ 28.160 (introductory text) | § 252.161 | § 28.161.
§ 28.161 (introductory text) | § 252.160 | § 28.160.
§ 28.161 (introductory text) | ATF | TTB.
§ 28.161 (introductory text) | § 252.162 | § 28.162.
§ 28.161(c) | ATF | TTB.
§ 28.162 | § 252.161 | § 28.161.
§ 28.162 (four times) | ATF | TTB.
§ 28.162 | § 252.160 | § 28.160.
§ 28.171(b) | § 252.21 | § 28.21.
§ 28.171(d) | § 252.26(b) | § 28.26(b).
§ 28.171 (concluding text) | ATF | TTB.
§ 28.190 (section heading) | ATF | TTB.
§ 28.190 | ATF | TTB.
§ 28.192 (two times) | ATF | TTB.
§ 28.195b(a) | § 252.171 | § 28.171.
§ 28.195b(a) | ATF | TTB.
§ 28.195b(b) | § 252.250 | § 28.250.
§ 28.195b(b) | ATF | TTB.
§ 28.195b(c) | ATF | TTB.
§ 28.197 (introductory text) | § 252.198 | § 28.198.
§ 28.197 (introductory text) | § 252.171 | § 28.171.
§ 28.198 (introductory text) | § 252.197 | § 28.197.
§ 28.198 (introductory text) | ATF | TTB.
§ 28.198 (introductory text) | § 252.199 | § 28.199.
§ 28.198(b) | ATF | TTB.
§ 28.199 | § 252.198 | § 28.198.
§ 28.199 (two times) | ATF | TTB.
§ 28.199 | § 252.197 | § 28.197.
§ 28.211(b) | § 252.21 | § 28.21.
§ 28.211 (concluding text) | ATF | TTB.
§ 28.214 | § 252.211 and § 252.212 | § 28.211 and § 28.212.
§ 28.215 | ATF | TTB.
§ 28.218 | ATF | TTB.
§ 28.218 | § 252.214 | § 28.214.
§ 28.219 (introductory text) | § 252.220 | § 28.220.
§ 28.219 (introductory text) | § 252.211 | § 28.211.
§ 28.220 (introductory text) | § 252.219 | § 28.219.
§ 28.220 (introductory text) | ATF | TTB.
§ 28.220 (introductory text) | § 252.220a | § 28.220a.
§ 28.220a | § 252.220 | § 28.220.
§ 28.220a (two times) | ATF | TTB.
§ 28.220a | § 252.219 | § 28.219.
§ 28.221(b) | § 252.21 | § 28.21.
§ 28.221 (concluding text) | ATF | TTB.
§ 28.225 (introductory text) | ATF | TTB.
§ 28.226 | ATF | TTB.
§ 28.226 | § 252.221 | § 28.221.
§ 28.226 | § 252.225 | § 28.225.
§ 28.227 | § 252.221 | § 28.221.
§ 28.227 | § 252.225(a), (b), or (c) | § 28.225(a), (b), or (c).
§ 28.227 | ATF | TTB.
§ 28.246 | §§ 252.241 through 252.245 | §§ 28.241 through 28.245.
§ 28.247 | §§ 252.241-252.245 | §§ 28.241-28.245.
§ 28.247 | ATF | TTB.
§ 28.250 (introductory text) (two times) | ATF | TTB.
§ 28.250(a)(4) | ATF | TTB.
§ 28.250 (concluding text) | § 252.253 | § 28.253.
§ 28.250 (concluding text) | ATF | TTB.
§ 28.252 | § 252.250 | § 28.250.
§ 28.261 | ATF | TTB.
§ 28.262 | ATF | TTB.
§ 28.264 | § 252.261 | § 28.261.
§ 28.264 (two times) | ATF | TTB.
§ 28.264 | § 252.291 | § 28.291.
§ 28.265 (four times) | ATF | TTB.
§ 28.266 | § 252.265 | § 28.265.
§ 28.266 | ATF | TTB.
§ 28.267 | ATF | TTB.
§ 28.268 | ATF | TTB.
§ 28.268 | § 252.22 | § 28.22.
§ 28.269(a) | ATF | TTB.
§ 28.269(b) | ATF | TTB.
§ 28.269(c) (two times) | ATF | TTB.
§ 28.275 (two times) | ATF | TTB.
§ 28.281 (two times) | ATF | TTB.
§ 28.282 | ATF | TTB.
§ 28.285 (seven times) | ATF | TTB.
§ 28.285 | § 252.291 | § 28.291.
§ 28.286 | ATF | TTB.
§ 28.290 (introductory text) (three times) | ATF | TTB.
§ 28.290 (introductory text) | § 252.291 | § 28.291.
§ 28.291 (introductory text) | §§ 252.264, 252.285, or 252.290 | §§ 28.264, 28.285, or 28.290.
§ 28.291(f) | § 252.264 | § 28.264.
§ 28.291(g) | § 252.285 | § 28.285.
§ 28.291(h) | § 252.290 | § 28.290.
§ 28.295 | § 252.43 | § 28.43.
§ 28.301 | ATF | TTB.
§ 28.302 (introductory text) (two times) | ATF | TTB.
§ 28.302 (concluding text) | § 252.301 | § 28.301.
§ 28.302 (concluding text) (three times) | ATF | TTB.
§ 28.302 (concluding text) | § 252.303 | § 28.303.
§ 28.303 (introductory text) | § 252.301 | § 28.301.
§ 28.303 (introductory text) | ATF | TTB.
§ 28.304 (two times) | ATF | TTB.
§ 28.304 | § 252.303 | § 28.303.
§ 28.310 | ATF | TTB.
§ 28.310 | §§ 252.302 through 252.304 | §§ 28.302 through 28.304.
§ 28.315 | ATF | TTB.
§ 28.316 (introductory text) (two times) | ATF | TTB.
§ 28.316 (concluding text) | § 252.315 | § 28.315.
§ 28.316 (concluding text) (three times) | ATF | TTB.
§ 28.316 (concluding text) | § 252.317 | § 28.317.
§ 28.317 (introductory text) | § 252.315 | § 28.315.
§ 28.317 (introductory text) | ATF | TTB.
§ 28.317 (concluding text) | ATF | TTB.
§ 28.318 | § 252.317 | § 28.317.
§ 28.318 | § 252.304 | § 28.304.
§ 28.320(a) (two times) | ATF | TTB.
§ 28.320(b) (two times) | ATF | TTB.
§ 28.321 | ATF | TTB.
§ 28.331 | § 252.40 | § 28.40.
§ 28.331 | § 252.41 | § 28.41.
§ 28.331 | § 252.42 | § 28.42.
§ 28.331 (two times) | ATF | TTB.
§ 28.331 | § 252.65 | § 28.65.
§ 28.332 | § 252.331 | § 28.331.
§ 28.332 (four times) | ATF | TTB.
§ 28.333 (two times) | ATF | TTB.
§ 28.333 | § 252.40 | § 28.40.
§ 28.333 | § 252.41 | § 28.41.
§ 28.333 | § 252.42 | § 28.42.
§ 28.334 | ATF | TTB.
§ 28.335 | ATF | TTB.

Signed: October 2, 2003.
Arthur J. Libertucci,
Administrator.
Approved: December 24, 2003.
Timothy E. Skud,
Deputy Assistant Secretary, Tax, Trade, and Tariff Policy.

[FR Doc. 04-1508 Filed 1-26-04; 8:45 am]

BILLING CODE 4810-31-P